DEPARTMENT OF DEFENSE

Office of the Secretary

[Transmittal No. 21-56]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-56 with attached Policy Justification.

Dated: July 25, 2023.
Aaron T. Siegel,
Alternate OSD Federal Register Liaison Officer, Department of Defense.

BILLING CODE 5001-06-P

BILLING CODE 5001-06-C

Transmittal No. 21-56

Notice of Proposed Issuance of Letter of Offer Pursuant to Section 36(b)(1) of the Arms Export Control Act, as amended

(i) Prospective Purchaser: Government of the United Arab Emirates

(ii) Total Estimated Value:

Major Defense Equipment | $ 0.0 million
Other | $65.0 million
TOTAL | $65.0 million

Funding Source: National Funds

(iii) Description and Quantity or Quantities of Articles or Services under Consideration for Purchase: Foreign Military Sales (FMS) case AE-B-KRG for a Foreign Military Sales Order (FMSO) II to provide funds for blanket order requisitions under a Cooperative Logistics Supply Support Agreement (CLSSA), was below the congressional notification threshold at $30 million. The case included common spares/repair parts to support the United Arab Emirates' Homing All the Way Killer (HAWK), Phased Array Tracking Radar to Intercept on Target (PATRIOT), and Terminal High Altitude Area Defense (THAAD) weapon systems, additional support; and other related elements of logistics and program support. The United Arab Emirates (UAE) has requested the case be amended to include funding to cover an additional three years. This amendment, which will add $35 million of non-MDE, will push the current case above the congressional notification threshold, requiring notification of the entire case before the amendment can be offered.

Major Defense Equipment (MDE):

None

Non-MDE:

Foreign Military Sales Order (FMSO) II to provide funds for blanket order requisitions under a Cooperative Logistics Supply Support Agreement (CLSSA) for common spares/repair parts to support the United Arab Emirates' Homing All the Way Killer (HAWK), Phased Array Tracking Radar to Intercept on Target (PATRIOT), and Terminal High Altitude Area Defense (THAAD) weapon systems, additional support; and other related elements of logistics and program support.

(iv) Military Department: Army (AE-B-KRG)

(v) Prior Related Cases, if any: TC-B-KVN, AE-B-KRB

(vi) Sales Commission, Fee, etc., Paid, Offered, or Agreed to be Paid: None

(vii) Sensitivity of Technology Contained in the Defense Article or Defense Services Proposed to be Sold: None

(viii) Date Report Delivered to Congress: February 3, 2022

* As defined in Section 47(6) of the Arms Export Control Act.

POLICY JUSTIFICATION

United Arab Emirates—Foreign Military Sales Order (FMSO) II Case

The Government of the United Arab Emirates (UAE) has requested to buy a Foreign Military Sales Order (FMSO) II to provide funds for blanket order requisitions under a Cooperative Logistics Supply Support Agreement (CLSSA) for common spares/repair parts to support the United Arab Emirates' Homing All the Way Killer (HAWK), Phased Array Tracking Radar to Intercept on Target (PATRIOT), and Terminal High Altitude Area Defense (THAAD) weapon systems, additional support; and other related elements of logistics and program support. An earlier FMS case, valued at $30 million, provided this requirement. The amended FMS case would extend the funding to cover an additional three years. The estimated total case value is $65 million.

This proposed sale will support the foreign policy and national security of the United States by helping to improve the security of an important regional partner. The UAE is a vital U.S. partner for political stability and economic progress in the Middle East.

The UAE intends to utilize this follow-on support to maintain its air defense weapon systems in accordance with U.S. maintenance requirements and standards. This sale supports the UAE's existing ability to deter and defend against hostile threats by maintaining the operational readiness of critical air defense systems. The proposed sale will contribute to the UAE's ability to effectively integrate with U.S.-led coalitions and operate independently in support of U.S. interests and the security of U.S. forces in theater, and is consistent with U.S. bilateral and multilateral defense plans in the CENTCOM region. The UAE will have no difficulty absorbing this equipment and services into its armed forces.

The proposed sale of this equipment and support will not alter the basic military balance in the region.

There are no principal contractors involved with this potential sale. There are no known offset agreements associated with this sale.

Implementation of this sale will not require the assignment of any additional U.S. Government or contractor representatives to the UAE.

There will be no adverse impact on U.S. defense readiness as a result of this proposed sale.

[FR Doc. 2023-16074 Filed 7-27-23; 8:45 am]

BILLING CODE 5001-06-P